DEPARTMENT OF JUSTICE

Antitrust Division

Notice Pursuant to The National Cooperative Research and Production Act of 1993—Medical Technology Enterprise Consortium

Notice is hereby given that, on February 4, 2022, pursuant to Section 6(a) of the National Cooperative Research and Production Act of 1993, 15 U.S.C. 4301 et seq. (“the Act”), Medical Technology Enterprise Consortium (“MTEC”) has filed written notifications simultaneously with the Attorney General and the Federal Trade Commission disclosing changes in its membership. The notifications were filed for the purpose of extending the Act's provisions limiting the recovery of antitrust plaintiffs to actual damages under specified circumstances. Specifically, Children's Hospital Los Angeles, Los Angeles, CA; CytoSorbents Corporation, Monmouth Junction, NJ; and Fast BioMedical, Indianapolis, IN; Felix Biotechnology, Inc., South San Francisco, CA; MitoSense, Inc., Great Falls, VA; Neurotrauma Sciences LLC, Alpharetta, GA; NIRSense LLC, Richmond, VA; Pneumeric, Inc., Rochester, MN; SiDx, Inc., Seattle, WA; Tao Treasures LLC dba Nanobiofab, Frederick, MD; The Research Foundation for the State University of New York on behalf of the Univ. at Buffalo, Amherst, NY; have been added as parties to this venture.

Also, Initiate Government Solutions LLC, North Palm Beach, FL; and Perspecta Enterprise Solutions LLC, Herndon, VA, have withdrawn as parties to this venture.

No other changes have been made in either the membership or planned activity of the group research project. Membership in this group research project remains open, and MTEC intends to file additional written notifications disclosing all changes in membership.

On May 9, 2014, MTEC filed its original notification pursuant to Section 6(a) of the Act. The Department of Justice published a notice in the Federal Register pursuant to Section 6(b) of the Act on June 9, 2014 (79 FR 32999).

The last notification was filed with the Department on November 29, 2021. A notice was published in the Federal Register pursuant to Section 6(b) of the Act on January 13, 2022 (87 FR 2178).

Suzanne Morris,
Chief, Premerger and Division Statistics, Antitrust Division.

[FR Doc. 2022-05187 Filed 3-10-22; 8:45 am]

BILLING CODE P